DEPARTMENT OF TRANSPORTATION

Federal Aviation Administration

14 CFR Part 71

[Airspace Docket No. 00-ANM-16]

Modification of Class E Airspace, Tillamook, OR

AGENCY: Federal Aviation Administration (FAA), DOT.

ACTION: Final rule.

SUMMARY: This action modifies the Tillamook, OR, Class E airspace to accommodate airspace required to provide adequate controlled airspace for Instrument Flight Rules (IFR) operations at Tillamook Airport, Tillamook, OR, and to support a Terminal Arrival Area (TAA) airspace design.

EFFECTIVE DATE: February 21, 2001.

FOR FURTHER INFORMATION CONTACT: Brian Durham, ANM-520.7, Federal Aviation Administration, Docket No. 00-ANM-16, 1601 Lind Avenue SW., Renton, Washington 98055-4056; telephone number: (425) 227-2527.

SUPPLEMENTARY INFORMATION:

History

On November 13, 2000, the FAA proposed to amend title 14 Code of Federal Regulations, part 71 (14 CFR part 71) by modifying Class E airspace at Tillamook, OR, in order to provide adequate controlled airspace for Instrument Flight Rules (IFR) operations at Tillamook Airport, Tillamook, OR (65 FR 219). This amendment modifies Class E5 airspace at Tillamook, OR, to provide adequate Class E 700 feet, and 1,200 feet controlled airspace, above the surface of the earth required to contain aircraft executing the RNAV RWY 13 Standard Instrument Approach Procedure (SIAP) with a Terminal Arrival Area (TAA) design to Tillamook Airport. The intended effect of this proposal is to provide adequate controlled airspace for Instrument Flight Rules (IFR) operations at Tillamook Airport, Tillamook, OR. Interested parties were invited to participate in the rulemaking proceeding by submitting written comments on the proposal. No comments were received.

The Rule

This amendment to Title 14 Code of Federal Regulations, part 71 (14 CFR part 71) revises Class E airspace at Tillamook, OR, in order to accommodate a new SIAP to the Tillamook Airport, Tillamook, OR. This amendment revises Class E5 airspace at Tillamook, OR, to meet current criteria standards associated with the RNAV RWY 13 SIAP. The FAA establishes Class E airspace where necessary to contain aircraft transitioning between the terminal and en route environments. This rule is designed to provide for the safe and efficient use of the navigable airspace and to promote safe flight operations under Instrument Flight Rules (IFR) at the Tillamook Airport and between the terminal and transition stages.

The area will be depicted on aeronautical charts for pilot reference. The coordinates for this airspace docket are based on North American Datum 83. Class E airspace areas extending upward from 700 feet or more above the surface of the earth are published in Paragraph 6005 of FAA Order 7400.9H dated September 1, 2000, and effective September 11s incorporated by reference in 14 CFR 7.1. The Class E airspace designation listed in this document will be published subsequently in the Order.

The FAA has determined that this regulation only involves an established body of technical regulations for which frequent and routine amendments are necessary to keep them operationally current. It, therefore, (1) is not a “significant regulatory action” under Executive Order 12866; (2) is not a “significant rule” under DOT Regulator Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565. 3 CFR, 1959-1963 Comp., p. 389.

§ 71.1 [Amended]

2. The incorporation by reference in 14 CFR 71.1 of the Federal Aviation Administration Order 7400.9H, Airspace Designations and Reporting Points, dated September 1, 2000, and effective September 16, 2000, is amended as follows:

Paragraph 6005 Class E airspace areas extending upward from 700 feet or more above the surface of the earth.

* * * * *

ANM OR E5 Tillamook, OR [Revised] (lat. 45°25′07″N., long. 123°48′49″W.)

That airspace extending upward from 700 feet above the surface within the 7.5-mile radius of the Tillamook Airport, and within 2.5 miles each side of the 334° bearing from the airport extending 13.8 miles; and that airspace extending upward from 1,200 feet above the surface within the 30 mile radius of lat. 45°37′05″N., long. 123°56′36″W., extending clockwise from the 246° bearing to the 064° bearing, and within the 30 miles radius of lat. 45°39′57″N., long 123°47′30″W., extending clockwise from the 064° bearing to the 154° bearing of lat. 45°37′05″N., long. 123°56′36″W., and within the 30 miles radius of lat. 45°34′11″N., 124°05′41″W., extending counterclockwise from the 244° bearing to the 154° bearing of lat. 45°37′05″N., long. 123°56′36″ W.; and excluding that airspace that extends more than 12 miles west of the U.S. shoreline; that airspace within Federal airways; the Astoria, OR; the Portland-Hillsboro, OR; and the Portland, OR, Class E airspace areas.

* * * * *

Issued in Seattle, Washington, on January 8, 2001.
Dan A. Boyle,
Assistant Manager, Air Traffic Division, Northwest Mountain Region.

[FR Doc. 01-1855 Filed 1-19-01; 8:45 am]

BILLING CODE 4910-13-M